DEPARTMENT OF HOMELAND SECURITY

Coast Guard

33 CFR Part 165

[COTP Savannah-04-041]

RIN 1625-AA00

Security Zone, St. Simons Sound and the Atlantic Ocean, GA

AGENCY: Coast Guard, DHS.

ACTION: Temporary final rule.

SUMMARY: The Coast Guard is establishing security zones, from June 5, 2004, through June 11, 2004, for the G-8 Summit to be held in Sea Island, Georgia. These security zones are required to provide for the security of the public, the G-8 Summit and its participants, and the safety of the waterways due to the potential for hostile and violent acts from demonstrators protesting the G-8 Conference. This rule prohibits the entry of all vessels and persons into the waters in the vicinity of Sea Island, Jekyll Island, and all waters of the Atlantic Ocean from the baselines of Sea Island, St. Simons Island and Jekyll Island extending seaward to a distance of 3 nautical miles, as well as waters on the Hampton River, Jones Creek, Lanier Island, and St. Simons Sound. Additional security zones prohibit entering closer than 100-yards to eight specified bridges located in the vicinity of these waters.

DATES: This rule is effective from 8 a.m. June 5, 2004, until 4 p.m. on June 11, 2004.

ADDRESSES: Marine Safety Office Savannah maintains the public docket for this rulemaking. Comments and material received from the public, as well as documents indicated in this preamble as being available in the docket, are part of docket [COTP Savannah 04-041] and will be available for inspection or copying at Marine Safety Office Savannah, 100 W. Oglethorpe Ave., Suite 1017, Savannah, Georgia 31401, between 8 a.m. and 4 p.m., Monday through Friday, except Federal holidays.

FOR FURTHER INFORMATION CONTACT: LTJG Anthony Quirino, Coast Guard Marine Safety Office Savannah, (912) 652-4353, ext. 235.

SUPPLEMENTARY INFORMATION:

Regulatory Information

On April 8, 2004, we published a notice of proposed rulemaking (NPRM) entitled Security Zone, St. Simons Sound and the Atlantic Ocean, GA, in the Federal Register (69 FR 18794). We received 2 letters commenting on the proposed rule. No public meeting was requested, and none was held.

Under 5 U.S.C. 553(d)(3), the Coast Guard finds that good cause exists for making this rule effective less than 30 days after publication in the Federal Register. This rule is necessary to minimize danger and provide security for the public and participants of the G8 Conference. Law enforcement officials require sufficient time to put security measures in place prior to the start of the conference on June 8, 2004. Therefore, it is in the public interest to have these regulations effective less than 30-days after publication in the Federal Register.

Background and Purpose

The G8 (Group of 8) is an informal group of eight countries—Canada, France, Germany, Italy, Japan, Russia, the United Kingdom and the United States—whose leaders meet to discuss broad economic and foreign policies. The 30th G8 Summit will be held in Sea Island, Georgia, from June 8 through June 10, 2004.

Cities that have recently hosted conferences or summits similar to the G-8 Summit have experienced significant property damage, and their law enforcement officers and public citizens have sustained personal injuries from a segment of protestors engaged in violent demonstrations against those summits and their agendas. Examples include the September 2003 World Trade Organization (WTO) Ministerial in Cancun, Mexico; the 2003 G-8 Summit in Calgary, Canada, the 2001 G-8 Summit in Genoa, Italy; and the 1999 World Trade Organization in Seattle, Washington. These conferences and summits experienced an influx of protestors, and in particular protest groups opposing international trade who have a propensity for violence and a desire to engage in hostile acts against, among others, summit attendees, conference venues, the general public, business and municipal buildings, and law enforcement officials. Information and intelligence indicates that there is potential for similar acts to be attempted during the upcoming June G-8 Summit in Savannah, Georgia.

This history has heightened the need for the development and implementation of various security measures in the vicinity of St. Simons Sound. In particular, there is a need for additional security around venue areas established for the dignitaries and official parties attending the G-8 Summit, bridges, and waterways used by commercial shipping. The Coast Guard has determined from information provided by local, state, and federal law enforcement officials that vessels or persons in close proximity to the G-8 Summit may launch hostile or violent acts from the waterways adjacent to the Summit and from the waterways adjacent to where Summit attendees are staying. The potential for these acts poses a security threat to the public, the G-8 Summit and its participants, and the flow of commerce on the navigable waterways.

The security zones mitigate these threats and are necessary to protect the public, the G-8 Summit attendees, law enforcement officers, and the flow of commerce on the waterways from persons attempting hostile and violent acts. Please note that elsewhere in today's Federal Register, we have published another final rule, entitled “Security Zones and Regulated Navigation Areas; Savannah River, GA,” that is also intended to provide security of the public, the G-8 Summit and its participants, and the safety of the waterways during this same period—June 5, 2004, until 4 p.m. on June 11, 2004.

Discussion of Rule

In our NPRM (69 FR 18794) we advised vessels transiting the Intracoastal waterway to exit and enter at Altamaha Sound as an alternate route around the security zone. Due to shoaling in Altamaha Sound, published in Local Notice to Mariners (08/04), vessels should instead use Doboy Sound, 2 miles north, to exit and enter the Intracoastal waterway.

Discussion of Comments and Changes

We received two letters offering comments on the proposed rule. One comment recommended using consistent language that prohibits the entry of all vessels and persons throughout the rule. We agree. As a result of this comment, language that prohibits the entry of all vessels and persons is now consistently used throughout this rule.

The other letter requested advance permission to enter and transit the security zones, and commented that the regulation was overbroad because it shut down traffic on the Intracoastal waterway. Granting pre-approval to transit these security zones is impracticable because of the numerous unknown exigencies that may exist. Moreover, numerous alternatives do exist, including transiting offshore of the security zones, weather permitting, or delaying a voyage until after expiration of the security zones. Finally, although authorization to transit the security zone may not be provided in advance, requests for permission to transit the zone immediately may still be granted by the COTP Savannah. This approach provides COTP Savannah the flexibility to enforce this rule as threats and conditions dictate.

Although the G-8 Summit is scheduled to take place from June 8 through June 10, 2004, it is necessary to make the security zones effective from June 5 through June 11, 2004, to provide security for arriving and departing G-8 summit attendees and allow law enforcement officials time to stand up and stand down from patrolling the security zones.

We made one technical change in the text of the regulation. The references in (a)(1) and (a)(2) to the location coordinates being based on North American Datum 83 have been moved into a note for the entire paragraph (a).

Regulatory Evaluation

This rule is not a “significant regulatory action” under section 3(f) of Executive Order 12866, Regulatory Planning and Review, and does not require an assessment of potential costs and benefits under section 6(a)(3) of that Order. The Office of Management and Budget has not reviewed it under that Order. It is not “significant” under the regulatory policies and procedures of the Department of Homeland Security (DHS).

We expect the economic impact of this rule to be so minimal that a full Regulatory Evaluation under the regulatory policies and procedures of DHS is unnecessary.

Small Entities

Under the Regulatory Flexibility Act (5 U.S.C. 601-612), we have considered whether this rule would have a significant economic impact on a substantial number of small entities. The term “small entities” comprises small businesses, not-for-profit organizations that are independently owned and operated and are not dominant in their fields, and governmental jurisdictions with populations of less than 50,000.

The Coast Guard certifies under 5 U.S.C. 605(b) that this rule would not have a significant economic impact on a substantial number of small entities.

This rule would affect the following entities, some of which might be small entities: The owners or operators of vessels intending to transit or anchor in a portions of St. Simons Sound, the Intracoastal waterway and the Atlantic Ocean covered by this security zone. We received no comments from owners of such small entities. Therefore, owners are encouraged to contact the Captain of the Port to seek permission to transit these security zones.

Assistance for Small Entities

Under section 213(a) of the Small Business Regulatory Enforcement Fairness Act of 1996 (Pub. L. 104-121), we want to assist small entities in understanding this rule so that they can better evaluate its effects on them and participate in the rulemaking. If the rule affects your small business, organization, or governmental jurisdiction and you have questions concerning its provisions or options for compliance, please contact the person listed under FOR FURTHER INFORMATION CONTACT.

Collection of Information

This rule calls for no new collection of information under the Paperwork Reduction Act of 1995 (44 U.S.C. 3501-3520).

Federalism

A rule has implications for federalism under Executive Order 13132, Federalism, if it has a substantial direct effect on State or local governments and would either preempt State law or impose a substantial direct cost of compliance on them. We have analyzed this rule under that Order and have determined that it does not have implications for federalism.

Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 or more in any one year. Though this rule would not result in such expenditure, we do discuss the effects of this rule elsewhere in this preamble.

Taking of Private Property

This rule would not affect a taking of private property or otherwise have taking implications under Executive Order 12630, Governmental Actions and Interference with Constitutionally Protected Property Rights.

Civil Justice Reform

This rule meets applicable standards in sections 3(a) and 3(b)(2) of Executive Order 12988, Civil Justice Reform, to minimize litigation, eliminate ambiguity, and reduce burden.

Protection of Children

We have analyzed this rule under Executive Order 13045, Protection of Children from Environmental Health Risks and Safety Risks. This rule is not an economically significant rule and does not create an environmental risk to health or risk to safety that may disproportionately affect children.

Indian Tribal Governments

This rule does not have tribal implications under Executive Order 13175, Consultation and Coordination with Indian Tribal Governments, because it does not have a substantial direct effect on one or more Indian tribes, on the relationship between the Federal Government and Indian tribes, or on the distribution of power and responsibilities between the Federal Government and Indian tribes.

Energy Effects

We have analyzed this rule under Executive Order 13211, Actions Concerning Regulations That Significantly Affect Energy Supply, Distribution, or Use. We have determined that it is not a “significant energy action” under that order because it is not a “significant regulatory action” under Executive Order 12866 and is not likely to have a significant adverse effect on the supply, distribution, or use of energy. The Administrator of the Office of Information and Regulatory Affairs has not designated it as a significant energy action. Therefore, it does not require a Statement of Energy Effects under Executive Order 13211.

Environment

We have analyzed this rule under Commandant Instruction M16475.lD, which guides the Coast Guard in complying with the National Environmental Policy Act of 1969 (NEPA)(42 U.S.C. 4321-4370f), and have concluded that there are no factors in this case that would limit the use of a categorical exclusion under section 2.B.2 of the Instruction. Therefore, this rule is categorically excluded, under figure 2-1, paragraph (34)(g), of the Instruction, from further environmental documentation.

List of Subjects in 33 CFR Part 165

Harbors, Marine safety, Navigation (water), Reporting and recordkeeping requirements, Security measures, Waterways.

For the reasons discussed in the preamble, the Coast Guard amends 33 CFR part 165 as follows:

PART 165—REGULATED NAVIGATION AREAS AND LIMITED ACCESS AREAS

1. The authority citation for part 165 continues to read as follows:

Authority: 33 U.S.C. 1226, 1231; 46 U.S.C. Chapter 701; 50 U.S.C. 191, 195; 33 CFR 1.05-1(g), 6.04-1, 6.04-6, and 160.5; Pub. L. 107-295, 116 Stat. 2064; Department of Homeland Security Delegation No. 0170.1.

2. From 8 a.m. on June 5, 2004, until 4 p.m. on June 11, 2004, add a new temporary § 165.T07-041 to read as follows:

§ 165.T07-041 Temporary security zones, St. Simons Sound, GA.

(a) Locations. The following areas are security zones:

(1) Security zone; St. Simons Sound and the Atlantic Ocean. All waters of St. Simons Sound and the Atlantic Ocean, from surface to bottom, encompassed by a line commencing from the north east point of Little St. Simons Island at 31°15′24″ N, 081°16′55″ W; thence, easterly seaward into the waters of the Atlantic Ocean out to a distance of 3 nautical miles at 31°15′24″ N, 081°11′55″ W; thence southerly following the contour of the baseline at a distance of 3 nautical miles to 31°00′44″ N, 081°19′35″ W; thence westerly to the southern tip of Jekyll Island at 31°00′44″ N, 081°26′03″ W; thence northwesterly to the south side of the Sidney Lanier bridge at 31°06′48″ N, 081°29′40″ W; thence continuing northeasterly to the northern tip of Lanier Island at 31°11′06″ N, 081°25′17″ W; thence continuing northeasterly to the Hampton River at 31°17′36″ N, 081°20′33″ W; thence back to the original point.

(2) Security zone, Bridges. All waters from surface to bottom within 100-yards of the following bridges:

Roadway | Bridge | Located at
(i) Jekyll Island Causeway | Cedar Creek | 31°05.318′ N, 081°28.780′ W.
(ii) Jekyll Island Causeway | Jekyll Creek | 31°02.808′ N, 081°25.347′ W.
(iii) Highway 17 | Sidney Lanier | 31°06.982′ N, 081°29.094′ W.
(iv) Saint Simons Causeway | Terry Creek | 31°09.697′ N, 081°28.137′ W.
(v) Saint Simons Causeway | Back River | 31°09.868′ N, 081°26.766′ W.
(vi) Saint Simons Causeway | Little River | 31°10.120′ N, 081°26.200′ W.
(vii) Saint Simons Causeway | MacKay River | 31°10.276′ N, 081°25.494′ W.
(viii) Saint Simons Causeway | Frederica River | 31°10.050′ N, 081°24.782′ W.

Note to § 165.T07-041(a): All coordinates are based upon North American Datum 83 (NAD 83).

(b) Definitions. As used in this section, designated representatives means Coast Guard Patrol Commanders including Coast Guard coxswains, petty officers and other officers operating Coast Guard vessels, and federal, state, and local officers designated by or assisting the Captain of the Port of Savannah (COTP) to restrict vessels and persons from entering the security zones.

(c) Regulations. Entry into or transiting within the security zones by vessels or persons is prohibited unless authorized by the Coast Guard Captain of the Port, Savannah, Georgia or that officer's designated representatives. Vessels docked, moored, or anchored in security zones when they become effective must remain in place unless ordered by or given permission from the COTP to do otherwise. Vessels or persons desiring to enter or transit the areas encompassed by the security zones may contact the Coast Guard on VHF Channel Marine 16 or at (912) 652-4353 to seek permission to enter or transit the zones. If permission is granted, all persons and vessels must comply with the instructions of the Captain of the Port or that officer's designated representatives.

Dated: May 17, 2004.
Harvey E. Johnson, Jr.,
Rear Admiral, U.S. Coast Guard, Commander, Seventh Coast Guard District.

[FR Doc. 04-11886 Filed 5-21-04; 12:12 pm]

BILLING CODE 4910-15-P